DEPARTMENT OF THE INTERIOR

National Park Service

Final Environmental Impact Statement and General Management Plan, Ebey's Landing National Historical Reserve, Island County, WA; Notice of Availability

Summary: Pursuant to the National Environmental Policy Act of 1969, 42 U.S.C. 4332(2)(c), and the Council on Environmental Quality Regulations (40 CFR part 1500-1508), the National Park Service has prepared and announces the availability of a Final Environmental Impact Statement (FEIS) for the proposed general management plan (GMP) for Ebey's Landing National Historical Reserve located in Island County, Washington. In addition to a “no-action” alternative which would maintain current management, the FEIS describes and analyzes two “action” alternatives which respond to concerns and issues the public identified during the scoping process, as well as various conservation planning requirements. The alternatives present varying management strategies that address visitor use and preservation of cultural and natural resources that protect and interpret the rural community on Whidbey Island from 19th century exploration and settlement in Puget Sound to the present time. Development concept plans for three sites are described. The potential environmental consequences of all the alternatives, and mitigation strategies, are identified and analyzed; a determination as to the “environmentally preferred” alternative is also provided.

Background: A Notice of Intent announcing preparation of the Draft EIS and general management plan was published in the Federal Register on May 22, 2000. Public engagement and information measures have included public meetings, presentations and meetings with organizations located within Ebey's Landing National Historical Reserve (Reserve) and additional organizations, newsletter mailings, local press releases, website postings, and postcards. Preceding the formal GMP planning process, the National Park Service (NPS) organized an interdisciplinary planning team to initiate a new general management plan for the Reserve. The team included both the Reserve's Trust Board (which included members from the NPS, Washington State, Island County and Town of Coupeville) and staff, and staff from the NPS Pacific West Regional Office in Seattle, Washington. The purpose of these initial meetings was to help characterize the scale and extent of the planning process.

The official public scoping process began in June 2000 when NPS staff produced and mailed a newsletter to approximately 650 people on the Reserve's mailing list. In addition, over 2800 newsletters were distributed at local public places such as libraries, civic buildings, businesses, and local parks. The planning team held a series of public scoping meetings in Seattle (June 20) and Coupeville (June 21). In total, 141 verbal comments were recorded from three meetings. Individual scoping meetings were also held between August 2000 and January 2001 to meet with organizations located within the Reserve to discuss issues of mutual interest. Other meetings with additional organizations were scheduled. Scoping letters and comments were received until August 15, 2000 (a total of 36 letters were received during the public scoping period).

On August 18, 2005, the NPS mailed 230 copies of the draft GMP/EIS to agencies, governmental representatives, organizations, and interested individuals. Copies of the draft GMP/EIS were placed in the Coupeville public library for public review. The Reserve's Notice of Availability was published in the Federal Register on September 2, 2005 to announce release of the Draft GMP/EIS for public review. The EPA's notice of filing of the draft EIS (August 26, 2005) and a revised Notice of Availability (September 13, 2005) provided opportunity for public comment through December 1, 2005. All comments received until December 15 are included in the official record.

The NPS and Reserve staff placed advertisements announcing locations, times, and dates for public meetings in the Puget Consumer Cooperative Sound Consumer, in Seattle, Washington, the Whidbey News-Times in Oak Harbor, and the Coupeville Examiner in Coupeville, Washington. Press releases were sent to the following local and regional newspapers to publicize release of the draft GMP/EIS and dates, times, and locations of public meetings: Coupeville Examiner, Whidbey News-Times, Skagit Valley Herald, Everett-Herald, Anacortes American, Journal of the San Juan Islands, South Whidbey Record, Bellingham Herald, Market Place, Peninsula Daily News, and Sequim Gazette.

A total of 2,000 newsletters were printed containing a summary of the draft GMP, also announcing the public meetings. Each newsletter included a postage-paid return form for public comments. Newsletters were available at the following locations: Island County Planning Office, the Town of Coupeville Planning Office, the Coupeville Public Library, Island Country Historical Museum in Coupeville, and Fort Ebey and Fort Casey state parks, the Coupeville Post Office, Coupeville Wharf, Coupeville Arts Center, the Oak Harbor and Coupeville Chamber of Commerce offices, local restaurants and other Coupeville businesses. Additional copies were also available at the Reserve's Trust Board office. All material was also made available online at http://parkplanning.nps.gov/ebla. The public was also able to provide comments electronically through this Web site.

The NPS and the Reserve's Trust Board hosted three public open houses, one in Seattle (September 12, 2005) and two in Coupeville (both on September 15, 2005). The purpose of the meetings was to provide an opportunity for the public to meet with Reserve Trust Board members and staff, and NPS staff to discuss the draft GMP/EIS and provide comments. A total of 74 people attended the sessions and 179 comments were recorded. In addition to these oral comments, at the close of the draft GMP/EIS public comment period a total of 51 pieces of written correspondence had been received from individuals, agencies and organizations. Minor changes to the Preferred Alternative were made as a result of public comment; however, there were no substantive modifications. Responses to comments are provided in the FEIS. Throughout the planning process, the public's comments and recommendations have provided the foundation for the proposed GMP, represented in the Reserve's purpose and significance, interpretive themes, and proposed actions.

Proposed Plan and Alternatives: Alternative A constitutes the No Action alternative and assumes that existing programs, facilities, staffing, and funding, would generally continue at their current levels. The NPS would dispose of NPS-owned and managed farms within the Reserve to the private sector after placing conservation easements on them.

Alternative B is the Preferred Alternative. The Reserve's Trust Board, and the NPS, in cooperation with partners, would enhance existing programs and resources management, as well as administrative, maintenance, and visitor services within the Reserve. To maintain and protect the rural landscape, the NPS would continue to purchase conservation easements on priority properties based upon a new land protection plan. The NPS would exchange two NPS-owned farms, Farms I and II, to private owners for additional protection on other properties within the Reserve. As part of the exchange of Farm II, the new farm owner would be required to construct a new maintenance building on the West Ridge property, which would remain in NPS ownership. The Sheep Barn at West Ridge would be rehabilitated for dry storage using preservation funds. Additional historic buildings would also be rehabilitated to the Secretary of the Interior's Standards. In addition, a minor boundary adjustment would be recommended. To orient and inform the visitor about the Reserve, three gateway kiosks would be developed along State Route 20 and a visitor center/contact station would be sited in an historic building in Coupeville or within the historic district.

As noted above, several minor modifications were made to the preferred alternative based upon public comments. A recommendation that Island County adopt a regulatory overlay zone for historic preservation over the unincorporated portion of the Reserve has been removed; the proposed GMP has also been updated to include historic preservation and land use measures undertaken by Island County since project planning was initiated. A second change involved recognizing the efforts by others and not the NPS to establish a marine science center within the Reserve and encouraging those on-going efforts. Also, since release of the draft GMP/EIS, Bell Farm has been removed from the proposed boundary in both Alternatives B and C at the owner's request.

Alternative C changes the management structure of the Reserve from a Trust Board of volunteers to a paid Commission structure. Many actions are similar to Alternative B but with some distinctions. Approximately five acres of NPS-owned land at Farm II would be retained for administrative and maintenance use before exchanging the remaining farmland to a private farm owner for additional protection on other properties within the Reserve. One of the three gateways would be in a historic building in the north of the Reserve. The Reserve would also partner for a visitor contact facility at a proposed marine science center.

Copies: The Final EIS/GMP is now available. Interested persons and organizations wishing to review the Final EIS/GMP may obtain the document by contacting Rob Harbor, Reserve Manager, Ebey's Landing National Historical Reserve, P.O. Box 774, Coupeville, WA 98239, or via telephone at (360) 678-6084. This document may also be reviewed at the Coupeville Library, or a copy can be obtained electronically at http://parkplanning.nps.gov/ebla. Please note that names and addresses of all respondents will become part of the public record. It is the practice of the NPS to make all comments, including names, home addresses, home phone numbers, and e-mail addresses of respondents, available for public review. Individual respondents may request that we withhold their names and/or home addresses, etc., but if you wish us to consider withholding this information you must state this prominently at the beginning of your comments. In addition, you must present a rationale for withholding this information.This rational must demonstrate that disclosure would constitute a clearly unwarranted invasion of privacy. Unsupported assertions will not meet this burden. In the absence of exceptional, documentable circumstances, this information will be released. We will always make submissions from organizations or business, and from individuals identifying themselves as representatives of or officials of organizations or businesses, available for public inspection in their entirety.

Decision Process: Following release of the Final GMP/EIS, a Record of Decision will be prepared and approved not sooner than 30 days after the EPA has published its notice of filing of the document in the Federal Register. A notice regarding the approved GMP will be similarly published. As a delegated EIS, the official responsible for the final decision is the Regional Director, Pacific West Region. Subsequently, official responsibilities for implementing the approved GMP reside with the Trust Board, Ebey's Landing National Historical Reserve and the Reserve Manager.

Dated: August 14, 2006.
Jonathan B. Jarvis,
Regional Director, Pacific West Region.

[FR Doc. 06-8626 Filed 10-11-06; 8:45 am]

BILLING CODE 4312-GW-M